DEPARTMENT OF TRANSPORTATION

Federal Aviation Administration

14 CFR Part 39

[Docket No. 99-NM-202-AD]

RIN 2120-AA64

Airworthiness Directives; Airbus Model A300, A310, and A300-600 Series Airplanes Equipped with Dowty Ram Air Turbines

AGENCY: Federal Aviation Administration, DOT.

ACTION: Supplemental notice of proposed rulemaking; reopening of comment period.

SUMMARY: This document revises an earlier proposed airworthiness directive (AD), applicable to certain Airbus Industrie Model A300, A310, and A300-600 series airplanes, that would have superseded an existing AD that currently requires repetitive deployment tests of the ram air turbine (RAT) and checks of the adjustment of the locking rod. The proposed AD would also have required modification of the RAT, which would terminate the repetitive tests and checks. That proposal was prompted by issuance of mandatory continuing airworthiness information by a foreign civil airworthiness authority. This new action would revise the proposed rule by expanding the applicability and by referencing revised procedures for accomplishment of the required actions. The actions specified by this new proposed AD are intended to ensure the availability of the RAT in case of need.

DATES: Comments must be received by September 18, 2000.

ADDRESSES: Submit comments in triplicate to the Federal Aviation Administration (FAA), Transport Airplane Directorate, ANM-114, Attention: Rules Docket No. 99-NM-202-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 99-NM-202-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 99-NM-202-AD.” The postcard will be date stamped and returned to the commenter.

Availability of NPRMs

Any person may obtain a copy of this NPRM by submitting a request to the FAA, Transport Airplane Directorate, ANM-114, Attention: Rules Docket No. 99-NM-202-AD, 1601 Lind Avenue, SW., Renton, Washington 98055-4056.

Discussion

A proposal to amend part 39 of the Federal Aviation Regulations (14 CFR part 39) to add an airworthiness directive (AD), applicable to certain Airbus Industrie Model A300, A310, and A300-600 series airplanes, was published as a notice of proposed rulemaking (NPRM) in the Federal Register on October 27, 1999 (64 FR 57796). That NPRM proposed to supersede AD 94-04-05, amendment 39-8823 (59 FR 7208, February 15, 1994), which is applicable to certain Airbus Industrie Model A300, A310, and A300-600 series airplanes. That NPRM would have continued to require repetitive deployment tests of the ram air turbine (RAT) and checks of the adjustment of the locking rod. That NPRM would have added a requirement for modification of the RAT, which would terminate the repetitive tests and checks. That NPRM was prompted by issuance of mandatory continuing airworthiness information by a foreign civil airworthiness authority. That NPRM was intended to ensure the availability of the RAT in case of need.

Due consideration has been given to the comments received in response to the NPRM.

Revisions to the Applicability

One commenter, the manufacturer, has advised that additional RAT part numbers (P/N) 768336 and 768338 should be included in the effectivity of the AD. Two of the RAT P/N's specified in the applicability of the proposed AD, RAT 16C 109 VG and RAT 16C 110 VG, may have been previously modified at the option of operators to install redesigned plungers, springs, and an O-ring seal. After such modification, the RAT P/N's are re-identified as 768336 and 768338, respectively. However, airplanes having these re-identified P/N's installed also should be subject to the requirements of the AD. The commenter notes that the related service information is being revised, and that the Direction Générale de l'Aviation Civile (DGAC), which is the airworthiness authority for France, will be revising or issuing new French airworthiness directives to address the two additional P/N's.

The same commenter advises that reference to P/N RAT 16C 104 VG should be removed from the applicability. The commenter states that the RAT manufacturer has confirmed that this P/N was never installed on Airbus Model A300, A310, and A300-600 series airplanes.

The FAA concurs that the applicability of the AD must be revised to include references to RAT P/N's 768336 and 768338 and to delete the reference to P/N RAT 16C 104 VG. The AD has been revised accordingly.

Explanation of Relevant Service Information

The manufacturer has issued Airbus Service Bulletins A300-29-0106 (for Model A300 series airplanes), A310-29-2078 (for Model A310 series airplanes), and A300-29-6039 (for Model A300-600 series airplanes); all Revision 03, all dated June 28, 2000. These service bulletins describe procedures for modification of the RAT by installing a grease nipple and a scraper seal assembly, replacing the locking rod spring with a stronger spring, and re-identifying the RAT with a new part number. These revisions contain procedures equivalent to those in the previous revisions of the service bulletins (which were cited as the appropriate sources of service information in the proposed AD), but reference additional P/N's and correct certain other references.

The manufacturer also has issued Airbus Service Bulletins A300-29-0101 (for Model A300 series airplanes), A310-29-2039 (for Model A310 series airplanes), and A300-29-6030 (for Model A300-600 series airplanes); all Revision 02, all dated June 28, 2000. These service bulletins describe procedures for repetitive deployment tests of the ram air turbine (RAT) and checks of the adjustment of the locking rod; corrective actions, if necessary; and greasing of the RAT leg at the entry and exit positions of the locking rod spring housing. The service bulletins contain equivalent procedures to those contained in Airbus All Operator Telex (AOT) 29-09, dated November 16, 1993 (which was cited as an appropriate source of service information in the proposed AD), but provide additional references to other service information necessary for accomplishment of the procedures.

The Direction Générale de l'Aviation Civile (DGAC) classified these service bulletins as mandatory and issued French airworthiness directive 2000-259-315(B), dated June 28, 2000, in order to assure the continued airworthiness of these airplanes in France.

Other Change to NPRM

The FAA has revised the compliance time for accomplishment of the modification of the RAT to “within 24 months after the effective date of this AD.” In developing an appropriate compliance time for this action, the FAA considered not only the degree of urgency associated with addressing the subject unsafe condition, but the availability of required parts and the practical aspect of installing the required modification within an interval of time that parallels normal scheduled maintenance for the majority of affected operators. This compliance time is also consistent with the DGAC's requirement for accomplishment of the modification prior to December 21, 2002.

Conclusion

Since the previously described changes expand the scope of the originally proposed rule, the FAA has determined that it is necessary to reopen the comment period to provide additional opportunity for public comment.

Cost Impact

There are approximately 126 airplanes of U.S. registry that would be affected by this proposed AD.

The repetitive tests and checks that are required by AD 94-04-05, and retained in this proposed AD, take approximately 2 work hours per airplane to accomplish, at an average labor rate of $60 per work hour. Based on these figures, the cost impact of this requirement of this proposed AD on U.S. operators is estimated to be $15,120, or $120 per airplane, per test/check cycle.

The new modification that is proposed in this AD action would take approximately 6 work hours per airplane to accomplish, at an average labor rate of $60 per work hour. Required parts would cost approximately $3,995 per airplane. Based on these figures, the cost impact of the proposed requirements of this AD on U.S. operators is estimated to be $548,730, or $4,355 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8823 (59 FR 7208, February 15, 1994), and by adding a new airworthiness directive (AD), to read as follows:

Airbus Industrie: Docket 99-NM-202-AD. Supersedes AD 94-04-05, Amendment 39-8823.

Applicability: Model A300, A310, and A300-600 series airplanes; certificated in any category; equipped with Dowty ram air turbines (RAT) having the following part numbers:

RAT 16C 100 VG

RAT 16C 101 VG

RAT 16C 102 VG

RAT 16C 103 VG

RAT 16C 105 VG

RAT 16C 109 VG

RAT 16C 110 VG 768336

768338

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To ensure the availability of the RAT in case of need, accomplish the following:

Restatement of Requirements of AD 94-04-05:

Repetitive Tests and Checks

(a) Within 60 days after March 2, 1994 (the effective date of AD 94-04-05, amendment 39-8823), or 500 hours time-in-service after March 2, 1994, whichever occurs first, perform a deployment test of the RAT and check the adjustment of the locking rod, in accordance with Airbus All Operator Telex (AOT) 29-09, dated November 16, 1993. Repeat the deployment test and adjustment check thereafter at intervals not to exceed 10 months.

(1) If no discrepancy is found, prior to further flight, apply grease to the RAT leg at the entry and exit positions of the locking rod spring housing, in accordance with the AOT.

(2) If any discrepancy is found, prior to further flight, correct it and apply grease to the RAT leg at the entry and exit positions of the locking rod spring housing, in accordance with the AOT.

New Requirements of This AD:

New Service Bulletin Revisions

(b) As of the effective date of this new AD, Airbus Service Bulletin A300-29-0101 (for Model A300 series airplanes), A310-29-2039 (for Model A310 series airplanes), or A300-29-6030 (for Model A300-600 series airplanes); all Revision 02, all dated June 28, 2000; as applicable; must be used for accomplishment of the actions required by paragraph (a) of this AD.

Modification

(c) Within 24 months after the effective date of this AD, modify the RAT by installing a grease nipple and a scraper seal assembly, replacing the locking rod spring with a stronger spring, and re-identifying the RAT with a new part number; in accordance with Airbus Service Bulletin A300-29-0106 (for Model A300 series airplanes), A310-29-2078 (for Model A310 series airplanes), or A300-29-6039 (for Model A300-600 series airplanes); all Revision 03, all dated June 28, 2000; as applicable. Accomplishment of the modification constitutes terminating action for the repetitive tests and checks required by paragraph (a) of this AD.

Note 2: The service bulletins refer to Sundstrand Service Bulletin ERPS26T-29-1 for modification instructions and new part numbers.

Note 3: Accomplishment of the actions specified in Airbus Service Bulletin A300-29-0106, A310-29-2078, or A300-29-6039; Revision 01; all dated September 8, 1997; or Revision 02, all dated January 26, 1999; as applicable; prior to the effective date of this AD, is acceptable for compliance with paragraph (c) of this AD.

Spares

(d) As of the effective date of this AD, no person shall install a RAT having the following part numbers on any airplane:

RAT 16C 100 VG

RAT 16C 101 VG

RAT 16C 102 VG

RAT 16C 103 VG

RAT 16C 105 VG

RAT 16C 109 VG

RAT 16C 110 VG

768336

768338

Alternative Methods of Compliance

(e)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 94-04-05, amendment 39-8823, are approved as alternative methods of compliance with paragraph (a) of this AD.

Note 4: Information concerning the existence of approved alternative methods of compliance with this AD, if any, may be obtained from the International Branch, ANM-116.

(f) Special flight permits may be issued in accordance with sections 21.197 and 21.199 of the Federal Aviation Regulations (14 CFR 21.197 and 21.199) to operate the airplane to a location where the requirements of this AD can be accomplished.

Note 5: The subject of this AD is addressed in French airworthiness directive 2000-259-315(B), dated June 28, 2000.

Issued in Renton, Washington, on August 17, 2000.
Donald L. Riggin,
Acting Manager, Transport Airplane Directorate, Aircraft Certification Service.

[FR Doc. 00-21464 Filed 8-22-00; 8:45 am]

BILLING CODE 4910-13-U